DEPARTMENT OF THE INTERIOR

Bureau of Land Management

[20X.LLAK980600. L18200000. LXSIARAC0000]

Notice of Public Meeting: Resource Advisory Council Subcommittee on Public Lands, Alaska

AGENCY: Bureau of Land Management, Interior.

ACTION: Notice of public meeting.

SUMMARY: In accordance with the Federal Land Policy and Management Act and the Federal Advisory Committee Act of 1972, the U.S. Department of the Interior's Bureau of Land Management (BLM) Alaska Resource Advisory Council (RAC) will meet as indicated below.

DATES: The Alaska RAC will hold a virtual meeting on May 25, 2021. The meeting will be held from 9 a.m. to 5 p.m., but may end earlier or later depending on the needs of group members.

ADDRESSES: The meeting will be held online through the Zoom meeting application. The public can watch the meeting and provide comments through this link: https://blm.zoomgov.com/j/1611843868. Written comments can be mailed to: BLM Alaska State Office, Office of Communications, Attn: RAC Coordinator Melinda Bolton; 222 W. 7th Avenue #13, Anchorage, AK 99513. Comments can also be submitted by email (mbolton@blm.gov) to the coordinator with the subject line: BLM AK RAC Meeting.

Meeting links, guidance for attendees and the final agenda will be available on the BLM Alaska RAC web page at https://www.blm.gov/Alaska/RAC and linked on BLM Alaska news releases and social media posts.

FOR FURTHER INFORMATION CONTACT: Melinda Bolton, RAC Coordinator, by telephone at (907) 271-3342, or by email at mbolton@blm.gov. Persons who use a telecommunications device for the deaf (TDD) may call the Federal Relay Service (FRS) at 1-800-877-8339 to contact Ms. Bolton during normal business hours. The FRS is available 24 hours a day, 7 days a week, to leave a message or question. You will receive a reply during normal business hours.

SUPPLEMENTARY INFORMATION: The 15-member Alaska RAC serves in an advisory capacity concerning issues relating to land use planning and the management of the public land resources located within the State of Alaska. All meetings are open to the public in their entirety. The meeting agenda includes discussions on lands and cadastral survey, land use planning projects, and recreation; a Subsistence Board activity update; and nomination and election of a RAC Chairperson.

Interested persons may make oral presentations to the RAC during the meeting or file written statements. Such requests should be made to the RAC Coordinator Melinda Bolton prior to the public comment period. Depending on the number of people who wish to speak and the time available, the time for individual comments may be limited. Individuals who plan to attend and need further information about the meetings, or special assistance such as sign language interpretation or other reasonable accommodations, may contact Melinda Bolton (see FOR FURTHER INFORMATION CONTACT).

Before including your address, phone number, email address, or other personal identifying information in your comments, please be aware that your entire comment, including your personal identifying information, may be made publicly available at any time. While you can ask us in your comment to withhold your personal identifying information from public review, we cannot guarantee that we will be able to do so.

Authority: 43 CFR 1784.4-2.

Chad B. Padgett,
State Director.

[FR Doc. 2021-08195 Filed 4-20-21; 8:45 am]

BILLING CODE 4310-JA-P